DEPARTMENT OF DEFENSE

Department of the Air Force

[Docket ID: USAF-2023-HQ-0004]

Submission for OMB Review; Comment Request

AGENCY: Department of the Air Force, Department of Defense (DoD).

ACTION: 30-Day information collection notice.

SUMMARY: The DoD has submitted to the Office of Management and Budget (OMB) for clearance the following proposal for collection of information under the provisions of the Paperwork Reduction Act.

DATES: Consideration will be given to all comments received by June 9, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Air Force Families Forever Annual Survivor Survey; OMB Control Number 0701-AFFF.

Type of Request: New.

Number of Respondents: 350.

Responses per Respondent: 1.

Annual Responses: 350.

Average Burden per Response: 25 minutes.

Annual Burden Hours: 146.

Needs and Uses: The Air Force Families Forever (AFFF) program is a long-term survivor program established to provide support to family members of deceased Regular Air Force and U.S. Space Force members and Reserve Component Airmen who died in an Active Duty, Inactive Duty for Training (IDT), or Annual Training (AT) status and whose relationship was established prior to the Airman or Guardian's death. The program's mission is to link families of fallen Airmen and Guardians to their Air Force and Space Force Family, thereby promoting Survivor resilience and fostering well-being and connectedness. The Air Force Families Forever Annual Survivor Survey is necessary to assess the impact and effectiveness of AFFF and make changes to policy, operational guidance, or tactical implementation of the program based on the results. Results may lead to changes to the current outreach conducted through AFFF, a reassessment of appropriate staffing levels, and the identification of high performing program elements, to name just a few potential outcomes. The AFFF survey is available to those NOK who are eligible for the program to obtain their assessment of how the program supports them and if any changes to the program are necessary to improve support. The survey is voluntary and will not collect any information specific to the respondent's identity. The information collected will remain confidential and will only be used in aggregate. The results will be analyzed by headquarters staff to understand the impacts of the AFFF program.

Affected Public: Individuals or households.

Frequency: Annual.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: May 5, 2023.
Aaron T. Siegel,
Alternate OSD Federal Register Liaison Officer, Department of Defense.

[FR Doc. 2023-09920 Filed 5-9-23; 8:45 am]

BILLING CODE 5001-06-P